DEPARTMENT OF DEFENSE

GENERAL SERVICES ADMINISTRATION

NATIONAL AERONAUTICS AND SPACE ADMINISTRATION

48 CFR Parts 5, 7, 10, and 52

[FAC 2005-66; Item IV; Docket 2013-0080; Sequence 2]

Federal Acquisition Regulation; Technical Amendments

AGENCY: Department of Defense (DoD), General Services Administration (GSA), and National Aeronautics and Space Administration (NASA).

ACTION: Final rule.

SUMMARY: This document makes amendments to the Federal Acquisition Regulation (FAR) in order to make editorial changes.

DATES: Effective February 28, 2013.

FOR FURTHER INFORMATION CONTACT: The Regulatory Secretariat, 1275 First Street NE., 7th Floor, Washington, DC 20417, 202-501-4755, for information pertaining to status or publication schedules. Please cite FAC 2005-66, Technical Amendments.

SUPPLEMENTARY INFORMATION: In order to update certain elements in 48 CFR parts 5, 7, 10, and 52, this document makes editorial changes to the FAR.

List of Subject in 48 CFR Parts 5, 7, 10, and 52

Government procurement.

Dated: February 20, 2013.
Laura Auletta,
Director, Office of Governmentwide Acquisition Policy, Office of Acquisition Policy, Office of Governmentwide Policy

Therefore, DoD, GSA, and NASA amend 48 CFR parts 5, 7, 10, and 52 as set forth below:

1. The authority citation for 48 CFR parts 5, 7, 10, and 52 is revised to read as follows:

Authority: 40 U.S.C. 121(c); 10 U.S.C. chapter 137; and 51 U.S.C. 20113.

PART 5—PUBLICIZING CONTRACT ACTIONS

5.601 [Amended]

2. Amend section 5.601 by removing from paragraphs (a), (b)(1), and (b)(2) “http://www.contractdirectory.gov/contractdirectory/” and adding “https://www.contractdirectory.gov/contractdirectory/” in its place.

PART 7—ACQUISITION PLANNING

7.105 [Amended]

3. Amend section 7.105 by removing from paragraph (b)(1) “http://www.contractdirectory.gov/contractdirectory/” and adding “https://www.contractdirectory.gov/contractdirectory/” in its place.

PART 10—MARKET RESEARCH

10.002 [Amended]

4. Amend section 10.002 by removing from paragraph (b)(2)(iv) “http://www.contractdirectory.gov/contractdirectory/” and adding “https://www.contractdirectory.gov/contractdirectory/” in its place.

PART 52—SOLICITATION PROVISIONS AND CONTRACT CLAUSES

5. Amend section 52.229-7 by revising the section and clause headings to read as follows:

52.229-7 Taxes—Fixed-Price Contracts with Foreign Governments.

* * * * *

Taxes—Fixed—Price Contracts With Foreign Governments (Feb 2013)

* * * * *

[FR Doc. 2013-04603 Filed 2-27-13; 8:45 am]

BILLING CODE 6820-EP-P